DEPARTMENT OF TRANSPORTATION

Office of the Secretary

[Docket No. DOT-OST-2008-0038]

Agency Information Collection Activities; New Information Collection: Survey of Over-the-Road Bus Companies About Accessible Transportation for Individuals With Disabilities

AGENCY: Office of the Secretary, DOT.

ACTION: Notice and request for comments.

SUMMARY: In accordance with the Paperwork Reduction Act of 1995, the U.S. Department of Transportation, Office of the Secretary, announces its plan to submit the Information Collection Request (ICR) described below to the Office of Management and Budget (OMB) for its review and approval. The new information collection is associated with a required review pursuant to the Americans with Disabilities Act of 1990 (ADA), implementing regulations for a Survey Over-the-Road Bus (OTRB) Companies located at subpart H of 49 CFR part 37. The collected information would assist DOT with any decision to modify or retain the requirements contained in the ADA regulations. On April 22, 2008, the Federal Motor Carrier Safety Administration (FMCSA) published a Federal Register notice (at 73 FR 21685) allowing for a 60-day comment period on a new ICR involving OTRBs. Two comments were received on this issue.

DATES: Please send your comments by August 31, 2009. OMB must receive your comments by this date in order to act quickly on the ICR.

ADDRESSES: All comments should reference Federal Docket Management System (FDMS) Docket Number DOT-OST-2008-0038. Interested persons are invited to submit written comments on the proposed information collection to the Office of Information and Regulatory Affairs, Office of Management and Budget. Comments should be addressed to the attention of the DOT FMCSA Desk Officer via electronic mail at oira_submission@omb.eop.gov, or faxed to (202) 395-6974, or mailed to the Office of Information and Regulatory Affairs, Office of Management and Budget, Docket Library, Room 10102, 725 17th Street, NW., Washington, DC 20503.

FOR FURTHER INFORMATION CONTACT: Mr. Peter Chandler, Federal Motor Carrier Safety Administration, Office of Enforcement and Compliance, Commercial Passenger Carrier Safety Division, 1200 New Jersey Avenue, SE., Washington, DC 20590. Telephone: (202) 366-5763, or e-mail peter.chandler@dot.gov.

SUPPLEMENTARY INFORMATION: Title: Survey of Over-the-Road Bus Companies About Accessible Transportation for Individuals With Disabilities.

Type of Information Collection Request: New information collection.

Respondents: Private entities that operate over-the-road buses (OTRBs) are primarily in the business of transporting people, and whose operations affect commerce.

Estimated Number of Respondents: 3,800.

Estimated Time per Response: The estimated average burden per response is 15 minutes.

Estimated Total Annual Burden: 950 hours [(3,800 responses × 15 minutes per response)/60 minutes = 950 hours, or 1,900 if conducted twice a year].

Frequency of Response: This proposed information collection is planned to be conducted only once or twice a year. A decision to request the information for a second time would be based upon the number of responses and the content of such responses to the initial request.

Background: On September 28, 1998, DOT issued final regulations, in response to the Americans with Disabilities Act of 1990 (Pub. L. 101-336, 104 Stat. 327, 42 U.S.C. 12101-12213 and 47 U.S.C. 225 and 611), which required the accessibility of new OTRBs and accessible OTRB service. The regulations require commercial OTRB operators to ensure that passengers with disabilities can use OTRBs. DOT is required by 49 CFR 37.215 to review the various requirements within the ADA regulations for OTRB companies. As part of this review, DOT is required to consider certain factors including the percentage of accessible ORTBs in the fleets of OTRB companies, the success of such companies at meeting the requests of passengers with disabilities for accessible OTRBs in a timely manner, ridership of OTRBs by passengers with disabilities, volume of complaints by passengers with disabilities, and the cost and service impacts of these requirements. After the review, DOT is required to decide whether it is appropriate to somehow revise the ADA regulations for OTRB companies (i.e., whether certain provisions of the ADA regulations should be removed, modified, or made more stringent).

DOT has an information collection to cover this paperwork burden under OMB Control Number 2100-0019 to provide the Agency with data for use in its review of the ADA related requirements and to monitor compliance by OTRB companies. Such data are reported to FMCSA as the agency delegated by DOT for this purpose. DOT needs additional data from OTRB companies so that it can conduct an effective review and make an informed regulatory policy decision on whether there is a need to revise, modify or remove any of the ADA regulations involving OTRBs. Specifically, data about bus fleet accessibility, fulfillment of accessible bus requests, and ridership and volume of complaints by passengers with disabilities, are needed from OTRB companies.

DOT needs the new data to conduct the required review of the various requirements within the ADA regulations for OTRB companies. The Department, however, would need FMCSA to send letters to approximately 3,800 registered OTRB companies that will be asked to complete and submit an enclosed form or make an on-line data submission via a customized Web site.

As noted above, FMCSA published inadvertently a notice in the Federal Register with a 60-day public comment period to announce this new proposed ICR on April 22, 2008. Two comments were received. Peter Pan Bus Lines, Inc. and the American Bus Association questioned FMCSA's authority to publish this new ICR when DOT had the authority to do so under OMB Control Number 2100-0019. While this new information collection request seeks different data from DOT's OMB Control Number 2100-0019 Information Collection, the initial 60-day Federal Register notice on this issue should have been published by DOT, rather than by FMCSA. It is true that FMCSA would administer this new information collection upon OMB approval, but the Department and FMCSA determined that the new information collection request should be issued by DOT since it has the statutory authority to conduct the required review under the ADA regulations.

Public Comments Invited: You are asked to comment on any aspect of this information collection, including: (1) Whether the proposed collection is necessary for the performance of DOT's functions; (2) the accuracy of the estimated burden; (3) ways for the DOT to enhance the quality, usefulness, and clarity of the collected information; and (4) ways that the burden could be minimized without reducing the quality of the collected information.

Issued in Washington, DC, on July 22, 2009.
Patricia Lawton,
DOT PRA Clearance Officer, Office of the Chief Information Officer.

[FR Doc. E9-18013 Filed 7-29-09; 8:45 am]

BILLING CODE 4910-9X-P